DEPARTMENT OF ENERGY

Federal Energy Regulatory Commission

Combined Notice of Filings #1

Take notice that the Commission received the following exempt wholesale generator filings:

Docket Numbers: EG25-374-000.

Applicants: Emily Solar, LLC.

Description: Emily Solar, LLC submits Notice of Self-Certification of Exempt Wholesale Generator Status.

Filed Date: 7/1/25.

Accession Number: 20250701-5259.

Comment Date: 5 p.m. ET 7/22/25.

Docket Numbers: EG25-375-000.

Applicants: Big Cajun I Units I and II LLC.

Description: Big Cajun I Units I and II LLC submits Notice of Self-Certification of Exempt Wholesale Generator Status.

Filed Date: 7/1/25.

Accession Number: 20250701-5291.

Comment Date: 5 p.m. ET 7/22/25.

Take notice that the Commission received the following electric rate filings:

Docket Numbers: ER10-2354-018.

Applicants: Midway-Sunset Cogeneration Company.

Description: Updated Triennial Market Power Analysis for Southwest Region of Midway-Sunset Cogeneration Company.

Filed Date: 6/27/25.

Accession Number: 20250627-5315.

Comment Date: 5 p.m. ET 8/26/25.

Docket Numbers: ER12-21-030; ER10-2381-017; ER11-2206-018; ER11-2207-018; ER11-2209-018; ER11-2210-018; ER11-2211-018; ER11-2855-032; ER11-2856-032; ER11-2857-032; ER11-3727-024; ER12-1711-024; ER13-1150-016; ER13-1151-016; ER17-1217-007; ER18-814-009; ER18-2033-005; ER19-672-009; ER19-843-009; ER19-844-005; ER19-1061-009; ER19-1062-005; ER19-1063-009; ER19-1200-014; ER20-486-009; ER21-963-006; ER23-175-006; ER23-1577-004; ER23-2403-003; ER23-2406-003; ER25-823-002; ER25-1220-002; ER16-1403-002; ER23-200-001; ER25-1316-001; ER25-2043-001.

Applicants: Shallow Basket Energy, LLC, Luna Valley Solar I, LLC, Daggett Solar Power 1 LLC, Golden Fields Solar IV, LLC, Golden Fields Solar IV Bess LLC, Painter Energy Storage, LLC, Arica Solar, LLC, Victory Pass I, LLC, Daggett Solar Power 2 LLC, Daggett Solar Power 3 LLC, Silverstrand Grid, LLC, Golden Fields Solar III, LLC, Clearway Power Marketing LLC, Solar Borrego I LLC, Solar Avra Valley LLC, Solar Alpine LLC, Solar Roadrunner LLC, Solar Blythe LLC, Marsh Landing LLC, Saavi Energy Solutions, LLC, Carlsbad Energy Center LLC, Total Gas & Power North America, Inc., Alta Wind XI, LLC, Alta Wind X, LLC, High Plains Ranch II, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC, Agua Caliente Solar, LLC.

Description: Updated Triennial Market Power Analysis for Southwest Region of Agua Caliente Solar, LLC, et al. under ER12-21, et al.

Filed Date: 6/27/25.

Accession Number: 20250627-5317.

Comment Date: 5 p.m. ET 8/26/25.

Docket Numbers: ER17-1329-006.

Applicants: J.P. Morgan Ventures Energy Corporation.

Description: Updated Triennial Market Power Analysis for Southwest Region of J.P. Morgan Ventures Energy Corporation.

Filed Date: 6/30/25.

Accession Number: 20250630-5332.

Comment Date: 5 p.m. ET 8/29/25.

Docket Numbers: ER23-2066-004; ER10-2528-008; ER10-2529-010; ER10-2534-011; ER22-1065-006; ER22-2622-005; ER23-1595-005; ER24-1336-003; ER24-2937-001; ER24-2938-001.

Applicants: Sierra Pinta Energy Storage, LLC, Elisabeth Solar, LLC, White Wing Ranch North, LLC, LRE Energy Services, LLC, Chaparral Springs, LLC, Rabbitbrush Solar, LLC, Kumeyaay Wind LLC, Buena Vista Energy, LLC, Aragonne Wind LLC, Antelope Valley BESS, LLC.

Description: Updated Triennial Market Power Analysis for Southwest Region and Notice of Non-Material Change in Status of Antelope Valley BESS, LLC., et al.

Filed Date: 6/30/25.

Accession Number: 20250630-5337.

Comment Date: 5 p.m. ET 8/29/25.

Docket Numbers: ER25-2751-000.

Applicants: American Transmission Company LLC.

Description: 205(d) Rate Filing: Development & Joint Coordination Agreement with NSPW to be effective 6/2/2025.

Filed Date: 7/1/25.

Accession Number: 20250701-5280.

Comment Date: 5 p.m. ET 7/22/25.

Docket Numbers: ER25-2752-000.

Applicants: Southwest Power Pool, Inc.

Description: 205(d) Rate Filing: 3351R7 Big Rivers NITSA NOA to be effective 6/1/2025.

Filed Date: 7/1/25.

Accession Number: 20250701-5283.

Comment Date: 5 p.m. ET 7/22/25.

Docket Numbers: ER25-2753-000.

Applicants: Southwest Power Pool, Inc.

Description: 205(d) Rate Filing: Revisions to Expand the Dispatchable Transaction Model into the RTBM to be effective 12/31/9998.

Filed Date: 7/1/25.

Accession Number: 20250701-5287.

Comment Date: 5 p.m. ET 7/22/25.

Docket Numbers: ER25-2754-000.

Applicants: Southwest Power Pool, Inc.

Description: 205(d) Rate Filing: East River Electric Power Cooperative Formula Rate Revisions to be effective 1/1/2025.

Filed Date: 7/1/25.

Accession Number: 20250701-5290.

Comment Date: 5 p.m. ET 7/22/25.

Docket Numbers: ER25-2755-000.

Applicants: Research Power Corporation.

Description: 205(d) Rate Filing: Notice of Succession to be effective 7/2/2025.

Filed Date: 7/1/25.

Accession Number: 20250701-5312.

Comment Date: 5 p.m. ET 7/22/25.

Docket Numbers: ER25-2756-000.

Applicants: PJM Interconnection, L.L.C.

Description: Tariff Amendment: Notice of Cancellation of ISA & CSA, SA Nos. 6917 & 6918; Queue No. AD1-031 to be effective 8/1/2025.

Filed Date: 7/1/25.

Accession Number: 20250701-5327.

Comment Date: 5 p.m. ET 7/22/25.

Docket Numbers: ER25-2757-000.

Applicants: Buchanan Generation, LLC.

Description: Tariff Amendment: Notice of Cancellation of Reactive Service Rate Schedule and Requests for Waiver to be effective 7/2/2025.

Filed Date: 7/1/25.

Accession Number: 20250701-5347.

Comment Date: 5 p.m. ET 7/22/25.

Docket Numbers: ER25-2758-000.

Applicants: Southwest Power Pool, Inc.

Description: 205(d) Rate Filing: 1630R13 The Empire District Electric Company NITSA and NOA to be effective 6/1/2025.

Filed Date: 7/1/25.

Accession Number: 20250701-5349.

Comment Date: 5 p.m. ET 7/22/25.

Docket Numbers: ER25-2759-000.

Applicants: Copper Mountain Solar 4, LLC.

Description: 205(d) Rate Filing: Southwest Triennial MBR Update to be effective 7/2/2025.

Filed Date: 7/1/25.

Accession Number: 20250701-5355.

Comment Date: 5 p.m. ET 7/22/25.

Docket Numbers: ER25-2760-000.

Applicants: H.A. Wagner LLC.

Description: 205(d) Rate Filing: Proposed Revisions to Reactive Service Rate Schedule and Requests for Waiver to be effective 6/1/2025.

Filed Date: 7/1/25.

Accession Number: 20250701-5368.

Comment Date: 5 p.m. ET 7/22/25.

Docket Numbers: ER25-2761-000.

Applicants: Power Authority of the State of New York, New York Independent System Operator, Inc.

Description: 205(d) Rate Filing: New York Independent System Operator, Inc. submits tariff filing per 35.13(a)(2)(iii: NYISO-NYPA 205: Amended LGIA Excelsior Energy SA2689 (CEII) to be effective 6/17/2025.

Filed Date: 7/2/25.

Accession Number: 20250702-5030.

Comment Date: 5 p.m. ET 7/23/25.

Docket Numbers: ER25-2762-000.

Applicants: ISO New England Inc., Vermont Transco LLC.

Description: 205(d) Rate Filing: Vermont Transco LLC submits tariff filing per 35.13(a)(2)(iii: Filing to Update Section 10—Real Power Losses.

Filed Date: 7/2/25.

Accession Number: 20250702-5033.

Comment Date: 5 p.m. ET 7/23/25.

Docket Numbers: ER25-2763-000.

Applicants: AEP Texas Inc.

Description: 205(d) Rate Filing: AEPTX-VESI 29 (Pajarita BESS) Generation Interconnection Agreement to be effective 6/19/2025.

Filed Date: 7/2/25.

Accession Number: 20250702-5040.

Comment Date: 5 p.m. ET 7/23/25.

Docket Numbers: ER25-2765-000.

Applicants: NorthWestern Corporation.

Description: 205(d) Rate Filing: RS 188—Revised Colstrip 1 &amp; 2 Transmission Agreement to be effective 9/1/2025.

Filed Date: 7/2/25.

Accession Number: 20250702-5062.

Comment Date: 5 p.m. ET 7/23/25.

Docket Numbers: ER25-2766-000.

Applicants: Midcontinent Independent System Operator, Inc. GridLiance Heartland LLC.

Description: 205(d) Rate Filing: GridLiance Heartland LLC submits tariff filing per 35.13(a)(2)(iii: 2025-07-02_GridLiance Heartland Logansport Asset Transfer Integration to be effective 9/1/2025.

Filed Date: 7/2/25.

Accession Number: 20250702-5081.

Comment Date: 5 p.m. ET 7/23/25.

Docket Numbers: ER25-2767-000.

Applicants: Emily Solar, LLC.

Description: 205(d) Rate Filing: Initial Market Based Rate Tariff to be effective 7/3/2025.

Filed Date: 7/2/25.

Accession Number: 20250702-5083.

Comment Date: 5 p.m. ET 7/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 2, 2025.
Debbie-Anne A. Reese,
Secretary.

[FR Doc. 2025-12653 Filed 7-7-25; 8:45 am]

BILLING CODE 6717-01-P